ARCHITECTURAL AND TRANSPORTATION BARRIERS COMPLIANCE BOARD

Meetings

AGENCY: Architectural and Transportation Barriers Compliance Board

ACTION: Notice of meetings.

SUMMARY: The Architectural and Transportation Barriers Compliance Board (Access Board) plans to hold its regular committee and Board meetings in Washington, DC, Monday through Wednesday, January 9-11, 2017 at the times and location listed below.

DATES: The schedule of events is as follows:

Monday, January 9, 2017

10:30 a.m.-11:00 a.m.—Budget Committee

11:00-Noon—Planning and Evaluation

1:30 p.m.-3:00 p.m.—Ad Hoc Committee on Frontier Issues: Perspectives of Occupants with Mobility Impairments on Fire Evacuation and Elevators, Kathryn Butler, Ph.D., National Institute of Standards and Technology

3:00 p.m.-4:00 p.m.—Technical Programs Committee

Tuesday, January 10, 2017

9:30 a.m.-Noon—Public Briefing on Recent Access Board Final Rules

1:30 p.m.-2:30 p.m.—Update on Current Access Board Rulemaking (Closed)

2:30 p.m.-3:00 p.m.—Ad Hoc Committee on Design Guidance

Wednesday, January 11, 2017

1:30 p.m.-3:00 p.m.—Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, January 11, 2017, the Access Board will consider the following agenda items:

• Approval of the draft November 9, 2016 meeting minutes (vote)

• Ad Hoc Committee Reports: Frontier Issues and Design Guidance

• Budget Committee

• Planning and Evaluation Committee

• Technical Programs Committee

• Election Assistance Commission Report

• Executive Director's Report

• Public Comment (final 15 minutes of the meeting)

Members of the public can provide comments either in-person or over the telephone during the final 15 minutes of the Board meeting on Wednesday, January 11, 2017. Any individual interested in providing comment is asked to pre-register by sending an email to bunales@access-board.gov with the subject line “Access Board meeting—Public Comment” with your name, organization, state, and topic of comment included in the body of your email. All emails to register for public comment must be received by Wednesday, January 4, 2017. Registered commenters will be provided with a call-in number and passcode before the meeting. Commenters will be called on in the order by which they pre-registered. Due to time constraints, each commenter is limited to two minutes. Commenters on the telephone will be in a listen-only capacity until they are called on.

All meetings are accessible to persons with disabilities. An assistive listening system, Communication Access Realtime Translation (CART), and sign language interpreters will be available at the Board meeting and committee meetings.

Persons attending Board meetings are requested to refrain from using perfume, cologne, and other fragrances for the comfort of other participants (see www.access-board.gov/the-board/policies/fragrance-free-environment for more information).

You may view the Wednesday, January 11, 2017 meeting through a live webcast from 1:30 p.m. to 3:00 p.m. at: www.access-board.gov/webcast.

David M. Capozzi,
Executive Director.

[FR Doc. 2016-31407 Filed 12-27-16; 8:45 am]

BILLING CODE 8150-01-P